DEPARTMENT OF AGRICULTURE

Animal and Plant Health Inspection Service

[Docket No. 02-008-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of the regulations governing the importation of solid wood packing material into the United States.

DATES: We will consider all comments we receive that are postmarked, delivered, or e-mailed by May 6, 2002.

ADDRESSES: You may submit comments by postal mail/commercial delivery or by e-mail. If you use postal mail/commercial delivery, please send four copies of your comment (an original and three copies) to: Docket No. 02-008-1, Regulatory Analysis and Development, PPD, APHIS, Station 3C71, 4700 River Road Unit 118, Riverdale, MD 20737-1238. Please state that your comment refers to Docket No. 02-008-1. If you use e-mail, address your comment to regulations@aphis.usda.gov. Your comment must be contained in the body of your message; do not send attached files. Please include your name and address in your message and “Docket No. 02-008-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information on the regulations governing the importation of solid wood packing material into the United States, contact Ms. Cynthia Stahl, Program Analyst, Port Operations, Plant Protection and Quarantine, APHIS, 4700 River Road Unit 60, Riverdale, MD 20737-1236; (301) 734-5281. For copies of more detailed information on the information collection, contact Mrs. Celeste Sickles, APHIS' Information Collection Coordinator, at (301) 734-7477.

SUPPLEMENTARY INFORMATION: Title: Wood Packing Material from China.

OMB Number: 0579-0135.

Type of Request: Extension of approval of an information collection.

Abstract: The Animal and Plant Health Inspection Service (APHIS) of the United States Department of Agriculture is responsible for, among other things, preventing the introduction and spread of plant pests into or through the United States. The Plant Protection Act authorizes the Department to carry out this mission. APHIS' Plant Protection and Quarantine (PPQ) program is responsible for implementing the regulations that carry out the intent of the Act.

The regulations in 7 CFR 319.40-1 through 319.40-11 are intended to mitigate the plant pest risk presented by the importation of logs, lumber, and other unmanufactured wood articles into the United States. Section 319.40-5 governs, in part, the importation of solid wood packing material (such as pallets or crates) from the People's Republic of China. Under § 319.40-5(g), solid wood packing material accompanying merchandise exported from the People's Republic of China (including Hong Kong) must be heat treated, fumigated and aerated, or treated with preservatives prior to exportation. Since solid wood packing material could harbor plant pests, treatment is necessary to help prevent the introduction of plant pests into the United States.

These requirements necessitate the use of information collection activities. If solid wood packing material is used in a shipment, the regulations require the completion of an importer statement and a treatment certificate stating that the solid wood packing material used in the shipment was treated, fumigated and aerated, or treated with preservatives. If solid wood packing material is not used in the shipment, then an exporter document is required stating that the shipment contains no solid wood packing material.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.087 hours per response.

Respondents: Exporters, foreign plant health protection authorities.

Estimated annual number of respondents: 29,000.

Estimated annual number of responses per respondent: 29.3103.

Estimated annual number of responses: 850,000.

Estimated total annual burden on respondents: 73,950 hours. (Due to averaging, the total annual burden hours may not equal the product of the annual number of responses multiplied by the reporting burden per response.)

All responses to this notice will be summarized and included in the request for OMB approval. All comments will also become a matter of public record.

Done in Washington, DC, this 27th day of February, 2002.
W. Ron DeHaven,
Acting Administrator, Animal and Plant Health Inspection Service.

[FR Doc. 02-5198 Filed 3-4-02; 8:45 am]

BILLING CODE 3410-34-U